ENVIRONMENTAL PROTECTION AGENCY

40 CFR Parts 52 and 81

[EPA-R10-OAR-2017-0582; FRL-9983-53—Region 10]

Air Plan Approval; ID, Pinehurst PM10 Redesignation, Limited Maintenance Plan; West Silver Valley 2012 Annual PM2.5 Emission Inventory

AGENCY: Environmental Protection Agency (EPA).

ACTION: Final rule.

SUMMARY: The EPA is approving the redesignation request and limited maintenance plan for the PM10 National Ambient Air Quality Standard developed for the City of Pinehurst PM10 Nonattainment Area and the Pinehurst PM10 Expansion Nonattainment Area. This redesignation will change the status of both areas from nonattainment to attainment. The limited maintenance plan for these contiguous nonattainment areas addresses maintenance of the PM10 standard for a ten-year period beyond redesignation. Related to this action, the EPA is taking final agency action on the September 15, 2013, high wind exceptional event at the Pinehurst monitoring station. Additionally, the EPA is finalizing approval of the emissions inventory for the West Silver Valley 2012 annual PM2.5 nonattainment area.

DATES: This action is effective on October 11, 2018.

ADDRESSES: The EPA has established a docket for this action under Docket ID No. EPA-R10-OAR-2017-0582. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available through https://www.regulations.gov, or please contact the person identified in the For Further Information Contact section for additional availability information.

FOR FURTHER INFORMATION CONTACT: Justin Spenillo at (206) 553-6125, or spenillo.justin@epa.gov.

SUPPLEMENTARY INFORMATION: Throughout this document whenever “we,” “us,” or “our” is used, it is intended to refer to the EPA.

Table of Contents

I. Background Information

II. Response to Comments

III. Final Action

IV. Statutory and Executive Orders Review

I. Background Information

On May 11, 2018, the EPA proposed to approve the redesignation request and limited maintenance plan (LMP) submitted by the Idaho Department of Environmental Quality (IDEQ) on September 29, 2017, for the City of Pinehurst PM10 Nonattainment Area and the Pinehurst PM10 Expansion Nonattainment Area, collectively referred to as the Pinehurst PM10 Nonattainment Area (Pinehurst PM10 NAA).

Related to this action, the EPA is taking final agency action on the EPA's concurrence with the IDEQ's request for exclusion of data measured on September 15, 2013, as a high wind exceptional event at the Pinehurst monitoring station, as set forth in the March 2, 2017 letter to the IDEQ, included in the docket. The Clean Air Act (CAA) allows for the exclusion of air quality monitoring data from design value calculations when there are exceedances caused by events, such as wildfires or high wind events, that meet the criteria for an exceptional event identified in the EPA's implementing regulations, the Exceptional Events Rule at 40 CFR 50.1, 50.14 and 51.930. In 2013, emissions from a high wind event entrained dust and impacted PM10 concentrations recorded at the Pinehurst monitor. The EPA evaluated the IDEQ's exceptional event demonstration for the flagged values of the 24-hour PM10 NAAQS for September 15, 2013, at the monitor in Pinehurst, Idaho, with respect to the requirements of the EPA's Exceptional Events Rule and determined that IDEQ met the rule requirements.

Separately, the EPA also proposed approval of the base year emissions inventory for the West Silver Valley (WSV) PM2.5 Nonattainment Area (NAA). Section 172(c)(3) of the CAA requires a state with an area designated as nonattainment to submit a “comprehensive, accurate, current inventory of actual emissions from all sources of the relevant pollutant” for the NAA. The IDEQ developed a 2013 base year emissions inventory for the WSV annual PM2.5 NAA. The base year emissions inventory includes data from 2013 and 2014 and in large part was extracted from the 2014 periodic emissions inventory which is used to populate the EPA's National Emissions Inventory. The 2013 base year inventory is one of the three years used to designate the area as nonattainment. This base year inventory presents direct PM2.5 emissions (condensable and filterable) and emissions of all PM2.5 precursors (NOX, VOCs, NH3, and SO2) to meet the emissions inventory requirements of CAA section 172(c)(3) and 40 CFR 51.1008(a)(1). The EPA has reviewed the results, procedures, and methodologies for the WSV Annual PM2.5 NAA base year emissions inventory. The EPA determined that the 2013 base year emissions inventory for the WSV annual PM2.5 NAA met the requirements of CAA section 172(c)(3) and 40 CFR 51.1008(a)(1).

An explanation of the CAA requirements, a detailed analysis of the submittal, and the EPA's reasons for proposing approval were provided in the notice of proposed rulemaking (83 FR 21976), and will not be restated here. The public comment period for this proposed rule ended on June 11, 2018. The EPA received adverse comments on the proposal.

II. Response to Comments

The Idaho Conservation League (ICL) submitted adverse comments on our proposed approval of the Pinehurst PM10 NAA redesignation request and LMP. Within this section, we have summarized the adverse comments and provided our responses. A full copy of comments received is available in the docket for this final action.

Comment—Permanent and Enforceable Emissions Reductions

Summary—The ICL comment letter asserts the “EPA must reject Idaho DEQ's request for redesignation of the Pinehurst NAA” because the state has not met the redesignation requirements in CAA section 107(d)(3)(E)(iii). The ICL cites the EPA's September 4, 1992, guidance, which, among other things, addresses emissions reductions based on permanent and enforceable measures (Memorandum from John Calcagni, Director, Air Quality Management Division, EPA Office of Air Quality Planning and Standards, entitled “Procedures for Processing Requests to Redesignate Areas to Attainment” (Calcagni Memo)). The ICL comment letter provides examples of nonattainment areas redesignated for PM10 and ozone in Ohio, Colorado, and Idaho, which use local rules, laws, and ordinances to provide for permanent and enforceable emissions reductions. The comment letter states that the IDEQ and City of Pinehurst were aware of the need for permanent and enforceable measures, citing discussion notes taken during a 2016 advisory committee session for the West Silver Valley PM2.5 NAA, an overlapping area designated nonattainment for the 2012 annual PM2.5 NAAQS. The ICL comment letter concludes that the control measures and associated emissions reductions are not permanent nor enforceable.

Response—We disagree with the commenter. Measures to attain the 24-hour PM10 NAAQS were submitted by IDEQ on April 14, 1992, and approved into the SIP on August 25, 1994 (59 FR 43745). In the August 25, 1994 action, the EPA evaluated the IDEQ's submittal with respect to the CAA section 172 requirements, including the Reasonably Available Control Measures and their enforceability. The EPA approved the control measures into the SIP at 40 CFR part 52, subpart N as meeting CAA requirements and making them, along with the attainment plan itself, federally enforceable (59 FR 43745). Once approved, the state is subject to CAA section 179(a)(4), which provides that a state can be subject to federal sanctions for not implementing any requirement of an approved plan or part of an approved plan, unless the deficiency is corrected within 18 months.

Reviewing the specific plan measures, the IDEQ has implemented woodstove replacements and home weatherization since the early 1990s in the Pinehurst PM10 NAA. As identified in Table 9 of the IDEQ submittal, the woodstove changeout program resulted in 76 uncertified woodstoves being replaced by 1994, with an additional 87 between 1995 and 2014 and 40 more between 2015 and 2017. These measures have been implemented through a variety of programs and agencies. Changeouts of uncertified woodstoves were completed through a combined Federal assistance grant and state and local loan program. This combined program was administered by the Northern Idaho Community Action Agency. The home weatherization program was run through the Idaho Economic Opportunity Office with loan and grant funding supplied by the Idaho Department of Water Resources, Farmers Home Administration, Washington Water Power, and North Idaho Community Action Agency. In terms of emissions reductions, when comparing the emissions inventories from residential wood combustion from 1988 to 2013, they dropped 80.25 lb/day (27.45%) during the winter season when particulate matter emissions are often the highest (Table 8 of the IDEQ submittal). These reductions are permanent in that both the woodstove replacement and the reduced energy needs from improved home energy efficiency via weatherization generally last and extend throughout the life of the home.¹ Any subsequent home modification would likely improve, if not maintain, emissions reductions, and benefits are expected to be net positive given that emissions of EPA-certified stoves are estimated to be on average three to four times lower than uncertified stoves.² The remaining measures, including the public awareness campaign focused on clean burning practices and the voluntary woodsmoke curtailment programs are all helpful in supporting the reduction of woodsmoke emissions in the area.

¹ See Department of Energy Weatherization Program, https://www.energy.gov/sites/prod/files/2018/06/f52/EERE_WAP_Fact%20Sheet-v2.pdf.

² See EPA Burnwise Program, https://www.epa.gov/burnwise/burn-wise-energy-efficiency.

Additionally, the EPA recently awarded IDEQ a 2015 Targeted Airshed Grant for the West Silver Valley PM2.5 NAA. As a condition of the grant agreement with the EPA, the IDEQ committed to replace 183 uncertified wood heating devices and provide the associated emissions reductions. Each homeowner receiving a changeout must sign a certification document to ensure that they will remove an uncertified wood heating device from their home and agree to have two follow-up home inspections on the new certified device, commit to proper wood burning practices, and commit to not replacing the device with another solid fuel burning device. All removed stoves are rendered permanently and irreversibly inoperable and are properly disposed. We believe the grant terms and conditions and the homeowner certifications provide additional enforceability for purposes of maintaining the PM10 standard in the area.

While not specifically taken credit for in the original attainment plan nor the LMP, road dust control has played an important part in the area. It is the second largest source of pollution according to the emissions inventory, and the area has taken measures to reduce emissions through paving roads, maintenance of roads, and adjusting street sweeping to reduce particulate matter. With respect to permanence of road controls, once paved their associated emissions will be reduced and road maintenance will ensure lasting emissions reductions. We received clarification from the IDEQ that since 2016, the majority of roads (over 10 miles in a city roughly 1 square mile) in the Pinehurst area have been rebuilt or sealed.

We have reviewed monitoring data for the area with respect to the permanence of the emissions reductions. In Table 2 of the IDEQ submittal, monitoring data is provided from 1986 through 2015. From 1986 through 1993, the Pinehurst PM10 NAA was regularly recording values above 100 µg/m³, and exceeded the 3-year expected exceedances design value of 1.0. From 1994 through 2015, Table 2 shows that the area has consistently met the 24-hour PM10 standard, and the EPA has reviewed and confirmed the data. As noted in the submittal, the area came into attainment in the same timeframe as the IDEQ's completion of the first batch of woodstove changeouts (76 by 1994). The area has continued to meet the 24-hour PM10 NAAQS design value since 1994, and it has also shown a continued decrease in maximum annual 24-hr PM10 concentrations. Additionally, the EPA has determined that the Pinehurst PM10 NAA meets the 5-year average design value for LMP qualification as identified in the proposal.

Since the proposal, the IDEQ has submitted and the EPA has reviewed and concurred on the IDEQ's demonstration that elevated PM10 concentrations on three days in September 2017 were attributable to wildfire exceptional events and qualify for exclusion under EPA's Exceptional Events Rule. The August 24, 2018 concurrence letter to the IDEQ is included in the docket. With the exceptional event days excluded, the area continues to meet the LMP average design value for the most recent 5-year period, through 2017. The EPA intends to propose final agency action on these 2017 exceptional events in a forthcoming action.

Based on the IDEQ PM10 LMP submission and the EPA's review of air quality monitoring data, it is reasonable to conclude that the measures to reduce PM10 in the Pinehurst PM10 NAA have contributed to permanent emissions reductions. Emissions reductions in the area have been maintained since 1994, and enforceable control measures remain in place as approved into the SIP. We therefore conclude that the area has met its obligations with regard to permanent and enforceable measures to maintain the 24-hour PM10 standard and that no further action is required.

Comment—Annual PM10 NAAQS

Summary—The ICL requests that the EPA explain why the LMP and the EPA's subsequent analysis only evaluated the 24-hour PM10 LMP design value and not the annual PM10 LMP design value. The commenter asserts that both are required.

Response—On August 9, 2001, the EPA issued guidance on streamlined maintenance plan provisions for certain moderate PM10 nonattainment areas seeking redesignation to attainment (Memorandum from Lydia Wegman, Director, Air Quality Standards and Strategies Division, entitled “Limited Maintenance Plan Option for Moderate PM10 Nonattainment Areas” (LMP Option Memo)). Section IV of the LMP Option Memo discusses LMP qualification and qualifying design values specifically. It states that “[t]he area should be attaining the NAAQS and the average PM10 design value for the area, based on the most recent 5 years of air quality data at all monitors in the area, should be at or below 40 μg/m³ for the annual PM10 NAAQS and 98 μg/m³ for the 24-hr PM10 NAAQS with no violations at any monitor in the nonattainment area.”

To qualify for the LMP option, the area must meet the design value test with respect to the standard for which the area was designated nonattainment.³ The Pinehurst PM10 NAA was designated nonattainment for the 24-hr PM10 NAAQS and therefore the appropriate statistical test is with respect to the 98 µg/m³ 5-year average design value. The EPA has confirmed that the area meets the 5-year average design value of 98 µg/m³. We believe that the IDEQ has met the requirements of the LMP with regards to the 24-hr PM10 standard and the IDEQ does not need to address the annual PM10 standard.

³ See LMP Option Memo.

Comment—Federal Clean Air Deregulation

Summary—The ICL states that they are concerned about recent actions and statements by federal agencies that may affect vehicle emissions reductions in the future, and how that may affect the Pinehurst PM10 NAA ability to attain and its permanence. The ICL comment letter specifically points to the IDEQ's reference to Tier 3 vehicle standards and the EPA's proposal to reduce Corporate Average Fuel Economy (CAFE) standards. The comment then requests that the EPA “identify any and all of its models and analyses that may be impacted by current and proposed deregulation of vehicle emissions. Furthermore, we request that any vehicle emission model or emission factor for PM10 be revised such that the models and factors are not based on any federal emission regulation currently under judicial or administrative review.”

Response—We do not agree with the commenter's assertion regarding the impact of current or proposed changes to motor vehicle emissions standards on the proposed action, because the Pinehurst PM10 NAA does not rely on motor vehicle emissions reductions for attainment or its continued maintenance of the NAAQS. Additionally, there are no proposed changes to Tier 3 vehicle standards and proposed CAFE standards have minimal effect on criteria pollutants, their focus instead being on greenhouse gas emissions reductions.

When reviewing the submitted Pinehurst PM10 2013 Emissions Inventory in Table 7 of the IDEQ's submittal, the primary source of PM10 is residential wood combustion at 17.75 tons per year (TPY), which is 44.5% of the PM10 emissions in the area. Road dust, paved and unpaved, is the next largest contributor at a cumulative 8.91 TPY, or 22.3% of emissions. Cumulatively, residential wood combustion and road dust make up 66.8% of the emissions inventory. During winter days when particulate matter levels are often higher, residential wood combustion is 212.05 lb/day, which is 82.17% of the PM10 emissions in the area (Table 8). Paved road dust (unpaved is no longer part of the emissions inventory), is the next largest contributor at a 25.38 lb/day, or 9.83% of emissions. Residential wood combustion currently makes up the majority of the emissions inventory. Motor vehicle emissions by comparison make up a very small portion of the emissions inventory at 1.84 TPY(annual) and 11.09 lb/day(winter), or less than 5% of both the annual and winter emissions inventories. This is expected as motor vehicle emissions do not contribute large quantities of PM10.

As described in section 3.4 Control Measures and section 3.2.2 Emissions Inventory Results and Adequacy Determination, the Pinehurst PM10 LMP focuses primarily on the reduction of PM10 emissions from residential woodsmoke and from road dust from paved and unpaved roads. The Pinehurst PM10 LMP itself does not take credit for emissions reductions from motor vehicle emissions reductions nor does it rely on it for continued attainment of the PM10 NAAQS.

As mentioned in the proposal, the Pinehurst area has met the PM10 3-year design value of expected exceedance of 1.0 or less since 1994. Additionally, the Pinehurst area has only recorded one value (in 2010) above 98 µg/m³ since 1999 that was not the result of an exceptional event. The area has demonstrated, and EPA has confirmed, that the 3-yr and 5-yr design values qualify for the LMP option. Additionally, the area has demonstrated that it meets the LMP motor vehicle regional analysis, which assesses increases in emissions based on the area's growth rate as applied to paved road dust emissions, unpaved road dust emissions, and mobile source emissions. It is this last category where the ICL comment questions if any changes in federal emissions requirements would affect the area's ability to attain. As explained above, motor vehicle emissions in the Pinehurst NAA are not expected to affect the areas ability to continue to attain as they are less than 5% and were not taken credit for in the attainment plan, nor the redesignation request and LMP.

While we do not believe that any changes to motor vehicle emissions are relevant to the area's ability to attain, we did a basic evaluation to determine if the area would continue to meet the LMP motor vehicle regional analysis. The only portion of the calculation that would change would be the on-road mobile source. Currently, that value is calculated using the formula in the LMP Option Memo: DV mobile * VMT paved, where the DV mobile provides a 3.6509 μg/m³ contribution to the design value and VMT paved is the 0.0166 percent growth rate (3.6509 * 0.0166 = 0.06 μg/m³ contribution). Given that the growth rate in Pinehurst is very small, any potential changes to the emissions standards would have a small effect on the design value. Taking a conservative assumption and doubling the DV mobile from 3.6509 μg/m³ to 7.3018 μg/m³, and applying the 0.0166 growth rate would only increase the mobile contribution from 0.06 µg/m³ contribution to 0.12 µg/m³ contribution and the Pinehurst area would still be able meet the motor vehicle regional analysis test. Given the small contribution of motor vehicle emissions and low growth rate in the Pinehurst area, we believe the Pinehurst PM10 NAA LMP is sufficient and no further action is required.

The ICL's request that the EPA identify and revise all of its models, analyses, and emissions factors that may be impacted by current or proposed changes to vehicle emissions standards is outside of the scope of this action.

Comment—Emission Factors

Summary—The ICL requested that the EPA confirm that all woodstoves replaced were “Phase II,” and to require that the IDEQ revise calculations in the case that any of the replacements were not Phase II. The ICL asserts that the IDEQ used incorrect emissions factors based on a comparison of AP-42 emissions factors to those used by IDEQ in the Pinehurst PM10 LMP, and requests an explanation for this or revision, whichever is more appropriate.

Response—We disagree that the IDEQ used incorrect emissions factors and do not believe that any further calculations are needed. In 1988, the EPA finalized the residential wood heaters new source performance standards (NSPS) that required performance standards for woodstoves. These performance standards were released in two phases; Phase I went into effect immediately in 1988, and Phase II went into effect in 1990. The Phase II performance standards required that catalytic stoves have an emission rate of 4.1g/hr or less and non-catalytic stoves have an emissions rate of 7.5 g/hr or less. All stoves that have been replaced in Pinehurst occurred after Phase II standards were in place. Additionally, we have received confirmation from IDEQ that these changeouts were completed and that they were Phase II EPA certified stoves.

With regard to the ICL's request for explanation of the emissions factors used, we reviewed the emissions factors (EFs) for residential wood combustion that IDEQ used and found them consistent with the EPA EFs and methodology used in the 2014 National Emissions Inventory. The IDEQ used EFs derived from EPA's Residential Wood Combustion Emissions Estimation Tool version 3.1 (October 2016) that are more up to date than the EFs in AP-42, which were last updated in 1996 for this source category. We have included in the docket the documentation for v3.1 and 3.2 of the Residential Wood Combustion Emissions Estimation Tool, which has the emissions factors used and the references for those EFs. Both versions of the tool use the same EFs.

In response to the comment, we have confirmed with the IDEQ that the changeouts were with phase II or better EPA certified stoves. We have also confirmed that the IDEQ emissions inventory assumptions and calculations are correct and that the appropriate EFs were used.

Comment—Contingency Plan

Summary—The ICL requested that the EPA further explain how the IDEQ's Contingency Plan is compliant with section 175A of the CAA. The comment provides a summary with references to CAA section 175A, the Calcagni Memo that provides guidance for maintenance plans, and the LMP Option Memo that provides guidance for LMPs.

Response—While the commenter correctly identifies that CAA section 175A provides the statutory requirements for maintenance plan requirements, and that the LMP Option Memo provides guidance for contingency provisions under the LMP option, the ICL's contention that contingency provisions ⁴ must be fully adopted and take effect within one year and without further legislative action is incorrect. These requirements do not appear in the CAA section 175A requirements nor the LMP Option Memo, and are contradicted by the Calcagni Memo, EPA's long-standing interpretation of redesignation and maintenance plan requirements. There, it states, “For the purposes of section 175A, a State is not required to have fully adopted contingency measures that will take effect without further action by the State in order for the maintenance plan to be approved.” Calcagni Memo at 12; see also Greenbaum v. EPA, 370 F.3d 527, 541 (6th Cir. 2004) (upholding this portion of the Calcagni Memo).

⁴ The IDEQ submittal and ICL comment letter use the terminology “contingency measures,” when referring to the CAA section 175A “contingency provisions” requirements. “Contingency measures” are associated with attainment planning and have different requirements.

CAA section 175A(d) and EPA's interpretation of that provision as set out in the Calcagni Memo and the LMP Option Memo provide the standards by which the EPA must evaluate contingency plans. Section 175A(d) states that “[e]ach plan revision submitted under this section shall contain such contingency provisions as the Administrator deems necessary to assure that the State will promptly correct any violation of the standard which occurs after the redesignation of the area as an attainment area. Such provisions shall include a requirement that the State will implement all measures with respect to the control of the air pollutant concerned which were contained in the State implementation plan for the area before redesignation of the area as an attainment area.” The Calcagni Memo and the LMP Option memo further elaborate that “Section 175A of the Act states that a maintenance plan must include contingency provisions, as necessary, to promptly correct any violation of the NAAQS which may occur after redesignation of the area to attainment. These contingency measures do not have to be fully adopted at the time of redesignation. However, the contingency plan is considered to be an enforceable part of the SIP and the State should ensure that the contingency measures are adopted as soon as possible once they are triggered by a specific event. The contingency plan should identify the measures to be adopted, and provide a schedule and procedure for adoption and implementation of the measures if they are required. Normally, the implementation of contingency measures is triggered by a violation of the NAAQS but the State may wish to establish other triggers to prevent a violation of the NAAQS, such as an exceedance of the NAAQS.”

The EPA has determined that the IDEQ's contingency plan meets the requirements of Section 175A(d) and the EPA's guidance memos. Section 3.5 of the IDEQ's submittal confirms that all measures relied upon for attainment, including woodstove changeouts, voluntary curtailment program, home weatherization, and public awareness campaign continue to be in place and will be strengthened if the PM10 standard is exceeded. If the Pinehurst area exceeds the standard, Section 3.5.1 identifies the Annual Network Plan monitoring data as the triggering mechanism for contingency provisions. A violation cited in the Annual Network Plan would trigger a schedule and process for IDEQ to examine the data, assess the source of the problem, and identify which contingency provision to adopt and implement. The submitted plan lists potential provisions focused on control of woodsmoke and road dust, the two primary sources of PM10 in the nonattainment area. The submitted contingency provisions meet the CAA section 175A requirement to continue implementing measures relied upon for attainment. There is an automatic process on a set schedule by which the Pinehurst area's design value is evaluated annually (i.e., the Annual Network Plan submittal-review-approval), and a violation would trigger the state to be required to evaluate, identify, adopt, and implement contingency provisions best suited towards bringing the area back into attainment. Therefore, the EPA is finalizing approval of the IDEQ's plan as meeting the requirements of section 175A.

III. Final Action

The EPA is approving the Pinehurst PM10 NAA LMP submitted by the IDEQ and concurrently redesignating the area to attainment for the PM10 NAAQS. Related to this action, the EPA is taking final agency action on the September 15, 2013, high wind exceptional event at the Pinehurst monitoring station. Additionally, the EPA is approving the West Silver Valley annual PM2.5 base year emissions inventory as meeting CAA section 172(c)(3) requirements.

IV. Statutory and Executive Orders Review

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 13, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Nitrogen dioxide, Particulate matter, Reporting and recordkeeping requirements, Sulfur dioxide.

40 CFR Part 81

Environmental protection, Air pollution control, National parks, Wilderness areas.

Authority: 42 U.S.C. 7401 et seq.

Dated: August 30, 2018.
Michelle L. Pirzadeh,
Acting Regional Administrator, Region 10.

For the reasons set forth in the preamble, 40 CFR parts 52 and 81 are amended as follows:

PART 52—APPROVAL AND PROMULGATION OF IMPLEMENTATION PLANS

1. The authority citation for part 52 continues to read as follows:

Authority: 42 U.S.C. 7401 et seq.

Subpart N—Idaho

2. In § 52.670, the table in paragraph (e) is amended by adding an entry at the end of the table for “Pinehurst PM10 Limited Maintenance Plan” to read as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Pinehurst PM10 Limited Maintenance Plan | Shoshone County; Pinehurst Expansion Area and City of Pinehurst | 9/29/2017 | 9/11/2018, [Insert Federal Register citation] |

PART 81—DESIGNATION OF AREAS FOR AIR QUALITY PLANNING PURPOSES

3. The authority citation for part 81 continues to read as follows:

Authority: 42 U.S.C. 7401 et seq.

4. In § 81.313, the table entitled “Idaho-PM-10” is amended by revising the entry for “Eastern Washington-Northern Idaho Interstate AQCR 62 (Idaho portion):” to read as follows:

§ 81.313 Idaho.

* * * * *

Idaho PM-10
Designated area | Designation: Date | Designation: Type | Classification: Date | Classification: Type
* * * * * * *
Eastern Washington-Northern Idaho Interstate AQCR 62 (Idaho portion):
Shoshone County: Pinehurst Expansion Area Northwest quarter of the Northwest quarter, Section 8, Township 48 North, Range 2 East; Southwest quarter of the Northwest quarter, Section 8, Township 48, North, Range 2 East; Northwest quarter of the Southwest quarter, Section 8, Township 48 North, Range 2 East; Southwest quarter, Section 8, Township 48 North, Range 2 East; Southwest quarter of the Southwest quarter, Section 48 North, Range 2 East, Boise Base (known as “Pinehurst expansion area”) | October 11, 2018 | Attainment |  |
City of Pinehurst | October 11, 2018 | Attainment |  |
* * * * * * *

* * * * *

[FR Doc. 2018-19600 Filed 9-10-18; 8:45 am]

BILLING CODE 6560-50-P